FEDERAL EMERGENCY MANAGEMENT AGENCY

[FEMA-3169-EM]

New Jersey; Emergency and Related Determinations

AGENCY: Federal Emergency Management Agency (FEMA).

ACTION: Notice.

SUMMARY: This is a notice of the Presidential declaration of an emergency for the State of New Jersey (FEMA-3169-EM), dated September 19, 2001, and related determinations.

EFFECTIVE DATE: September 19, 2001.

FOR FURTHER INFORMATION CONTACT: Madge Dale, Readiness, Response and Recovery Directorate, Federal Emergency Management Agency, Washington, DC 20472, (202) 646-2705.

SUPPLEMENTARY INFORMATION: Notice is hereby given that, in a letter dated September 19, 2001, the President declared an emergency under the authority of the Robert T. Stafford Disaster Relief and Emergency Assistance Act, 42 U.S.C. 5121-5204c (the Stafford Act), as follows:

Pursuant to the request of the Acting Governor of the State of New Jersey, I hereby declare that an emergency within the meaning of Section 501 (a) of the Robert T. Stafford Disaster Relief and Emergency Assistance Act, 42 U.S.C. 5121-5204c (the Stafford Act), exists in the State of New Jersey.

I so declare based on the Acting Governor's finding that the conditions in New Jersey resulting from fires and explosions in the State of New York on September 11, 2001, are of such severity and magnitude that effective response requires Federal assistance. These events in New York have had a direct and significant impact on New Jersey, which has provided response services and emergency measures at an extraordinary level due to its immediate proximity to the disaster site in New York, as well as its joint responsibility, through the Port Authority of New York and New Jersey, for facilities such as bridges to New York City.

You are authorized to coordinate all disaster relief efforts that have the purpose of alleviating the hardship and suffering of the local population caused by the emergency and to provide appropriate assistance for required emergency measures, as authorized under Title V of the Stafford Act to save lives, protect property and public health and safety, or to lessen or avert the threat of a catastrophe in the designated areas. You are further authorized to identify, mobilize, and provide at your discretion equipment and resources necessary to alleviate the impacts of the emergency and such other forms of assistance under Title V of the Stafford Act, as you may deem appropriate. Specifically, you are authorized to provide emergency protective measures (Category B) at 100 percent Federal funding. This assistance excludes regular time costs for subgrantees' regular employees.

In order to provide Federal assistance, you are hereby authorized to allocate from funds available for these purposes, such amounts as you find necessary for Federal disaster assistance and administrative expenses.

Further, you are authorized to make changes to this declaration to the extent allowable under the Stafford Act.

Notice is hereby given that pursuant to the authority vested in the Director of the Federal Emergency Management Agency under Executive Order 12148, I hereby appoint Peter Martinasco of the Federal Emergency Management Agency to act as the Federal Coordinating Officer for this declared emergency.

I do hereby determine the following areas of the State of New Jersey to have been affected adversely by this declared emergency:

Emergency protective measures (Category B) under the Public Assistance program at 100 percent Federal funding for all 21 counties in the State of New Jersey.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 01-24351 Filed 9-27-01; 8:45 am]

BILLING CODE 6718-02-P